DEPARTMENT OF HEALTH AND HUMAN SERVICES

Administration for Children and Families

[OMB No. 0970-0223]

Proposed Information Collection Activity; State Self-Assessment Review and Report

AGENCY: Office of Child Support Enforcement, Administration for Children and Families, HHS.

ACTION: Request for public comment.

SUMMARY: The Office of Child Support Enforcement (OCSE), Administration for Children and Families (ACF) requests a 3-year extension of the State Self-Assessment Review and Report with minor revisions. The information collected in the report assists state child support agencies and OCSE in determining whether the agencies meet federal child support performance requirements. The current Office of Management and Budget (OMB) approval expires on April 30, 2022.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Identify all requests by the title of the information collection.

SUPPLEMENTARY INFORMATION: Description: State child support agencies are statutorily required to annually assess the performance of their child support enforcement programs and to provide a report of the findings to OCSE. The information collected in the State Self-Assessment Review and Report is used as a management tool to determine whether states are complying with federal mandates and to help states evaluate their programs and assess performances. There are no changes proposed to this information collection, but we have increased the estimated time per response based on feedback from respondents.

Respondents: States and territories.

Annual Burden Estimates
Instrument | Total number of annual respondents | Total number of annual responses per respondent | Average annual burden hours per response | Annual burden hours
State Self-Assessment Review and Report and Instructions | 54 | 1 | 8 | 432

Estimated Total Annual Burden Hours: 432.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 654(15)(A); 45 CFR 308.1(e).

Mary B. Jones,
ACF/OPRE Certifying Officer.

[FR Doc. 2021-24604 Filed 11-9-21; 8:45 am]

BILLING CODE 4184-41-P